NATIONAL FOUNDATION ON THE ARTS AND THE HUMANITIES

National Endowment for the Humanities; Solicitation of Public Comments on Guidelines for Ensuring and Maximizing the Quality, Objectivity, Utility, and Integrity of Information Disseminated by the National Endowment for the Humanities

AGENCY: National Endowment for the Humanities.

ACTION: Notice and Request for public comment.

SUMMARY: The National Endowment for the Humanities (NEH) announces that its draft Guidelines for Ensuring and Maximizing the Quality, Objectivity, Utility, and Integrity of Information Disseminated by the National Endowment for the Humanities have been posted on its Web site, www.neh.gov. NEH invites public comments on its draft Guidelines and will consider the comments received in developing its final Guidelines.

DATES: Comments are due on or before September 9, 2002. Final Guidelines are to be published by October 1, 2002.

ADDRESSES: Submit comments to the Office of General Counsel, National Endowment for the Humanities, 1100 Pennsylvania Avenue, NW, Washington, DC 20506, gencounsel@neh.gov.

FOR FURTHER INFORMATION CONTACT: Daniel Schneider, General Counsel, telephone 202-606-8322, gencounsel@neh.gov. Hearing-impaired individuals may contact NEH by TDD/TTY at 202-606-8338.

SUPPLEMENTARY INFORMATION: Section 515 of the Treasury and General Government Appropriations Act for FY 2001 (Pub. L. 106-554) requires each Federal agency to publish guidelines for ensuring and maximizing the quality, objectivity, utility, and integrity of the information it disseminates. Agency guidelines must be based on government-wide guidelines issued by the Office of Management and Budget (OMB). In compliance with this statutory requirement and OMB instructions, NEH has posted its draft Information Quality Guidelines on its Web site (www.neh.gov).

The Guidelines describe the agency's procedures for ensuring the quality of information that it disseminates and the procedures by which an affected person may obtain correction of information disseminated by NEH that does not comply with the Guidelines. NEH invites public comments on its draft Guidelines and will consider the comments received in developing its proposed final Guidelines, which must be submitted to OMB for review. The agency's final Guidelines are to be published by October 1, 2002. Persons who cannot access the draft Guidelines through the Internet may request a paper or electronic copy by contacting the Office of the General Counsel.

Guidelines for Ensuring and Maximizing the Quality, Objectivity, Utility, and Integrity of Information Disseminated by the National Endowment for the Humanities

These Guidelines for Ensuring and Maximizing the Quality, Objectivity, Utility, and Integrity of Information Disseminated by the National Endowment for the Humanities are prepared under the Treasury and General Government Appropriations Act for Fiscal Year 2001, Section 515(b), and are designed to ensure and maximize the quality, objectivity, utility and integrity of information disseminated by NEH.

1. Scope

These guidelines apply to information whose dissemination is initiated or sponsored by the National Endowment for the Humanities on or after October 1, 2002, regardless of when the information was first disseminated. The types of information dissemination that are covered by these guidelines include the following:

• Statistics and data about national conditions in the humanities produced by this agency or its contractors.

• Analytical studies about national conditions in the humanities produced by this agency or its contractors.

• Information such as annual NEH Performance Reports presented to Congress and intended to be released simultaneously to the public.

The types of information dissemination that are not covered by these guidelines include the following:

• Distribution intended to be limited to government employees, agency contractors, or grantees.

• Intra- or inter-agency use or sharing of government information.

• Responses to requests for agency records under the Freedom of Information Act, the Privacy Act, the Federal Advisory Committee Act or other similar law.

• Correspondence with individuals or persons.

• Press releases, fact sheets, press conferences or similar communications in any medium that announce, support the announcement or give public notice of information NEH has disseminated elsewhere.

• Archival records.

• Congressional submissions not intended to be released simultaneously to the public.

• Public filings, subpoenas or adjudicative processes.

• Public information about basic agency operations and grant programs.

• Opinions when the presenter makes it clear what is being offered are neither objective facts nor views that the agency endorses as its own.

• Scholarship, education materials and curricula, or humanities programs for the public distributed by agency grantees, contractors, or employees that are clearly identified as not representing an official position of the National Endowment for the Humanities. It is the policy of this agency that information disseminated by grantees, contractors, or employees not specifically authorized to represent an official NEH position will be accompanied by the following disclaimer statement: “All opinions, findings, conclusions, or recommendations expressed in this (publication) (program) (exhibition) do not necessarily represent those of the National Endowment for the Humanities.”

2. Ensuring and Maximizing Information Quality

The National Endowment for the Humanities awards grants in support of teaching, scholarship, and programs for the general public in history, literature, language, philosophy, and other disciplines of the humanities. The results of humanities activities supported by the Endowment are disseminated, with or without NEH support, to students and teachers, the scholarly community, and the general public in a multitude of formats and contexts, including school and college curricula; study opportunities for teachers; scholarly journal articles and monographs; data bases, websites, and other digital formats; museum exhibitions; and programs for television and radio. Project proposals submitted to the Endowment are subjected to an exacting and highly selective process of peer review before any funding is awarded. Although the Endowment takes great care to select only the most meritorious project proposals for funding, NEH grantees and contractors are wholly responsible for conducting their project activities and preparing the results for public distribution unless specifically authorized to represent information on behalf of the agency.

3. Objectivity

It is the policy of the National Endowment for the Humanities to ensure the objectivity of all information that this agency disseminates to the public. So that disseminated information is reliably accurate, clear, complete, and unbiased, the Endowment is implementing a multidimensional information quality strategy that includes the following: identifying the sources of information, grounding every information product in reliable data and sound analytical techniques, providing an appropriately full context for information, and carefully reviewing each information product before releasing it to the public.

The Endowment is tasked by its authorizing legislation to “develop a practical system of national information and data collection on the humanities, scholars, educational and cultural groups, and their audiences.” In fulfillment of this Congressional mandate, NEH designs, supports, and directs a variety of data collection and research projects, including periodic surveys. NEH-sponsored data collection projects are contracted and conducted using methodologies that are consistent with generally accepted professional standards, including the statistical standards and practices developed by the Federal Committee on Statistical Methodology, the guidelines and policies set forth in the Paperwork Reduction Act, and other regulations related to the conduct of surveys.

NEH does not normally disseminate “influential scientific, financial, or statistical information” of the kind defined in OMB's quality guidelines as likely to “have a clear and substantial impact on important public policies or important private sector decisions.” Nor are data-gathering projects or analytical studies conducted by the Endowment likely to become the basis of federal rulings that have the force and effect of law. Consequently, the most stringent OMB quality standards for transparency of documentation and reproducibility of results are unlikely to apply to the dissemination of information by the National Endowment for the Humanities. Nevertheless, NEH is committed to ensuring that data-gathering projects and analytical studies conducted by the Endowment or on its behalf comply with generally accepted disciplinary and professional standards with respect to the transparency of documentary sources and research methods. It is the Endowment's policy to document the data sources, quantitative methods and assumptions, and checks that support any analytical results produced and disseminated by this agency so that appropriately qualified members of the public will be adequately informed to make an independent judgment of their validity.

As part of its data gathering function, the Endowment also prepares information products using data produced or maintained by other federal agencies, non-profit organizations, foreign governments, and international organizations. All external data are reviewed for relevance and are properly sourced and cited. Known limitations of the external data are clearly stated.

4. Utility

The Endowment is committed to ensuring the usefulness for its intended audience of the information that this agency disseminates. Data gathering projects such as surveys are designed and developed in conformity with the requirements of the Paperwork Reduction Act and after consultation with a variety of data consumers and stakeholders, including other federal agencies, professional societies, and nonprofit organizations. As appropriate, analytical studies are reviewed prior to publication by experts outside the agency.

5. Integrity

NEH has been a leader in the national effort to develop standards and best practices for the creation, dissemination, and maintenance of access to humanities materials in digital formats. Moreover, the Endowment is committed to ensuring that its own computer data systems are secure against unauthorized access or revision, compromise of confidentiality, and inadvertent corruption. The Endowment's system of information security controls include sound practices that have been recognized as responsive to the requirements of the Government Information Security Reform Act (GISRA).

NEH is subject to a variety of statutory requirements to protect information that the agency gathers and maintains. These requirements are set forth in the following:

• Privacy Act of 1974;

• Computer Security Act of 1987;

• OMB Circulars A-123, A-127, and A-130;

• Government Information Security Reform Act; and

• Federal Managers' Financial Integrity Act of 1982.

6. Information Correction Mechanism

Persons affected by the public dissemination of information initiated or sponsored by the National Endowment for the Humanities may request correction of any such information that they believe does not comply with the above Information Quality Guidelines, or with the broader guidelines issued by OMB. Affected persons are those who may benefit or be harmed by NEH-disseminated information.

To facilitate citizen review, affected persons may seek and obtain, where appropriate, timely correction of information maintained and disseminated by NEH that does not comply with OMB or NEH guidelines.

a. Requests for correction should be sent in writing, by mail, fax, or email to: Information Quality, National Endowment for the Humanities, Room 403, 1100 Pennsylvania Avenue, NW., Washington, DC 20506. 202-606-8428. osp@neh.gov.

b. The request should clearly identify the information asserted to be incorrect, including the name of the publication or other source of information, the date of issuance, and a detailed description of the information to be corrected. The request should state specifically why the information should be corrected and suggest specific changes.

c. The request should include the requester's name, mailing address, fax number, email address, and telephone number. NEH needs this information to respond to the request and to contact the requester as necessary.

d. If a request does not reasonably describe the information asserted to be incorrect, NEH may request additional information.

The Endowment's Assistant Chairman for Planning and Operations has been designated NEH Information Quality Official. The Information Quality Official will coordinate an objective review of all valid complaints. Valid complaints are defined as neither frivolous nor made in bad faith. An objective review is understood as one conducted independently of the NEH programmatic office that originated the information at issue.

NEH will generally notify the requester of the agency decision on whether and how any corrections will be made within 30 business days of receipt of the request. If the requester does not agree with the agency's decision regarding corrective action, the requester may file for reconsideration by the Chairman within 30 days of NEH's decision. Such reconsideration requests will generally be resolved within 45 business days.

On an annual fiscal-year basis, NEH will submit a report to the Director of OMB providing information (both quantitative and qualitative, where appropriate) on the number and nature of complaints received by NEH regarding agency compliance with these guidelines and how such complaints were resolved. NEH will submit these reports no later than January 1 of each following year, with the first report due January 1, 2004.

Dated: August 6, 2002.
For the National Endowment for the Humanities.
Daniel Schneider,
General Counsel.

[FR Doc. 02-20188 Filed 8-8-02; 8:45 am]

BILLING CODE 7536-01-P